DEPARTMENT OF JUSTICE

Antitrust Division

Notice Pursuant to the National Cooperative Research and Production Act of 1993—the Frame Relay Forum

Notice is hereby given that, on July 18, 2002, pursuant to section 6(a) of the National Cooperative Research and Production Act of 1993, 15 U.S.C. 4301 et seq. (“the Act”), The Frame Relay Forum has filed written notifications simultaneously with the Attorney General and the Federal Trade Commission disclosing changes in its membership status. The notifications were filed for the purpose of extending the Act's provisions limiting the recovery of antitrust plaintiffs to actual damages under specified circumstances. Specifically, Hammerhead Technologies, Menlo Park, CA; and USCG Command Control Engineering, Portsmouth, VA have been added as parties to this venture.

Also, ACACIA, Saint-Peray, France; ADTRAN, Huntsville, AL; ASC, Vienna, VA; BT, Ipswich, United Kingdom; Clarent Corporation Littleton, CO; INTELSAT, Washington, DC; Kentrox, LLC, Portland, OR; Larscom, Research Triangle Park, NC; max.mobil Telekommunikation Services, Vienna, Austria; Memotec Communications, Montreal, Quebec, Canada; NSI Communications, Ville St.-Laurent, Quebec, Canada; Paradyne, Largo, FL; Qwest Communications, Denver, CO; Tele Danmark, Copenhagen, DENMARK; and Verilink, Huntsville, AL have been dropped as parties to this venture.

No other changes have been made in either the membership or planned activity of the group research project. Membership in this group research project remains open, and The Frame Relay Forum intends to file additional written notification disclosing all changes in membership.

On April 10, 1992, The Frame Relay Forum filed its original notification pursuant to section 6(a) of the Act. The Department of Justice published a notice in the Federal Register pursuant to section 6(b) of the Act on July 2, 1992 (57 FR 29537).

The last notification was filed with the Department on October 5, 2001. A notice was published in the Federal Register pursuant to section 6(b) of the Act on December 5, 2001 (66 FR 63258).

Constance K. Robinson,
Director of Operations, Antitrust Division.

[FR Doc. 02-22448 Filed 9-3-02; 8:45 am]

BILLING CODE 4410-11-M